DEPARTMENT OF THE TREASURY

Notice of Request for Public Comment on the Accessibility to Department of the Treasury Conducted Programs and Activities by Individuals With Disabilities

AGENCY: Departmental Offices, Treasury.

ACTION: Notice of request for public comment.

SUMMARY: Section 504 of the Rehabilitation Act of 1973 requires that programs and activities conducted by federal agencies be accessible to individuals with disabilities. The Department of the Treasury invites the public to comment on any barriers to the accessibility of its conducted programs and activities by individuals with disabilities.

DATES: Comments should be received on or before December 30, 2009 to be assured of consideration.

ADDRESSES: Comments may be submitted via electronic mail at OCRD.comments@do.treas.gov, or via mail addressed to the Director, Office of Civil Rights and Diversity, 1500 Pennsylvania Avenue, NW., Washington, DC 20220.

FOR FURTHER INFORMATION CONTACT: Lydia E. Aponte at (202) 622-8335 (not a toll-free-call), or by e-mail to the above address.

SUPPLEMENTARY INFORMATION: Request for Comments: Comments are requested concerning: (1) Any existing barriers to the access by individuals with disabilities, and how they impede access to the program or activity; (2) Any existing resources that may be used to address these barriers, and how they could be employed; (3) The best ways to improve accessibility to Department of the Treasury programs and activities by individuals with disabilities. Members of the public providing comments are urged to keep comments succinct and responsive to these subjects.

The Department of the Treasury: The Department of the Treasury is an Executive Department composed of the following bureaus: Departmental Offices; Internal Revenue Service; Office of the Comptroller of the Currency; Office of Thrift Supervision; Bureau of Engraving and Printing; United States Mint; Bureau of Public Debt; Financial Management Service; Alcohol and Tobacco, Tax and Trade Bureau; Financial Crimes Enforcement Network; Office of Inspector General; Special Inspector General for the Troubled Assets Relief Program; and the Treasury Inspector General for Tax Administration.

Department of the Treasury.
Dan Tangherlini,
Assistant Secretary for Management and Chief Financial Officer.

[FR Doc. E9-27622 Filed 11-17-09; 8:45 am]

BILLING CODE 4810-25-P